GENERAL SERVICES ADMINISTRATION

Office of Communications; Cancellation of a Standard Form

AGENCY: General Services Administration.

ACTION: Notice.

SUMMARY: The Department of State is cancelling the following Standard Form because of low usage: OF 263, Requisition for Equipment, Supplies, Furniture, Etc.

DATES: Effective May 3, 2000.

FOR FURTHER INFORMATION CONTACT: Ms. Barbara Williams, General Services Administration, (202) 501-0581.

Dated: April 14, 2000.
Barbara M. Williams,
Deputy Standard and Optional Forms Management Officer.

[FR Doc. 00-10968 Filed 5-2-00; 8:45 am]

BILLING CODE 6820-34-M